DEPARTMENT OF ENERGY

Federal Energy Regulatory Commission

[Docket No. RM01-8-000]

Revised Public Utility Filing Requirements; Notice Providing Detail on Electric Quarterly Reports Software Availability and Announcing Schedule for Software Demonstrations

December 20, 2002.

The Commission issued an order on December 18, 2002, instructing all public utilities to file Electric Quarterly Reports using software available on its Web site beginning with the report due on or before January 31, 2003. The order ends the interim filing format and fully implements Order No. 2001,¹ a final rule which requires public utilities to file Electric Quarterly Reports.² This notice gives more details on the implementation of the new software and announces the availability of in-person and Internet-based software demonstrations.

¹ Revised Public Utility Filing Requirements, Order No. 2001, 67 FR 31043, FERC Stats. & Regs. ¶ 31,127 (April 25, 2002); reh'g denied, Order No. 2001-A, 100 FERC ¶ 61,074, reconsideration and clarification denied, Order No.2001-B, 100 FERC ¶ 61,342 (2002).

² Respondents are reminded that complete contract data, including all active contracts under 18 CFR part 35, are required beginning with this quarter's filing.

The Electric Quarterly Report System can be accessed on the Commission's Web site at http://www.ferc.gov/electric/eqr/eqr.htm. The Electric Quarterly Report System Users Guide, a detailed guidance document, is also available to be downloaded from that web page. The software provides a user interface on the filer's workstation. (For those familiar with the Commission's Form 1 or Form 423 software, the Electric Quarterly Report System uses a similar approach.) It can be loaded onto several PCs to allow multiple users working on a LAN. Data can reside anywhere on the user's network. Data can be entered manually or imported into the system in Comma Separated Values (CSV) format.

In addition to the Electric Quarterly Report System Users Guide, respondents can participate in demonstrations of the software at the Commission and on-line, using the Internet. A live demo will be held at the Commission on Friday, December 20, 2002, at 10 a.m. Webex demos will be held on-line on December 20, 2002, at 3:30 p.m. and December 30, 2002, at 11 a.m. The Webex demos combine a conference call with an on-line demo in which the software is demonstrated on users' PC screens. (For more information on how Webex works, see http://www.webex.com.) It is free to the respondents who participate. There will also be a recorded Webex demo made available for downloading from the Commission's Web site by December 20. Persons desiring to participate in either of the Webex demos should e-mail public.webtrain@ferc.gov and state which demo they would like to participate in. No prior registration is necessary for the demo to be held at the Commission. If there is sufficient demand for more demos, they will be scheduled in January.

The data collected by the new Electric Quarterly Report System is identical to the data collected during the interim format period. A properly constructed Electric Quarterly Report file (using the interim format defined for the filings covering the second and third quarters of 2002) should be able to be imported easily into the software. For Excel filers, a new template has been created, which has field content and order identical to the Excel templates issued for the interim filings, but some “behind-the-scenes” formatting has been changed to facilitate a successful import.

The software has error checking features to ensure (to the extent possible) compliance with Order No. 2001. Among other things, the error checks will ensure consistency in the terms used in several data fields. The lists of acceptable values for the some of the restricted fields in the system have been revised. These fields include Increment Name, Increment Peaking Name, Product Name, and Time Zone. The permissible values for these fields are listed in Appendix A. In addition, consistent with the requirement in Order No. 2001 that public utilities must report book outs,³ a new value for Product Name, “Booked Out Power,” has been added. Power sales that have been booked out must be identified in the transaction portion of the report using this Product Name.

³ Order No. 2001 at P 285, Order No. 2001-A at P 26.

If filers wish to include other values, they should register them as provided for in Order No. 2001. Filers are requested to list the suggested value in a document and file the document as a Comment in Docket ER02-2001-000 via the Internet. The requests will be reviewed to determine if the additional value is needed, or if an existing value will suffice.

The Electric Quarterly Report System includes a feature to submit the Electric Quarterly Report filing to the Commission. There is no file size limit for the Electric Quarterly Report submittals as there was in the interim format. In order to submit a filing to the Commission, a PIN code is required. (The software can be downloaded and used without the PIN; the PIN is required only for filing the Electric Quarterly Report with the Commission.) By January 15, 2003, respondents will receive an e-mail with their assigned PIN code. The e-mails will be sent to the contacts designated in the utilities' previous Electric Quarterly Report filings. If utilities have not previously filed an Electric Quarterly Report, or for some reason they do not receive an e-mail from the Commission designating their PIN code by January 15, 2003, they should e-mail ferconlinesupport@ferc.gov to request one. For security reasons, PINS will not be given out over the phone. The Electric Quarterly Report filing for the fourth quarter of 2002 must be filed using the new Electric Quarterly Report System on or before January 31, 2003. Submittals made using any other format will not be considered in compliance with Order No. 2001.

Beta testers and others who accessed the test software do not need to uninstall the Electric Quarterly Report software that they used during the testing period. The system will automatically update the test software to the production version. Any test filings made prior to January 1, 2003 will be purged from the Commission's data base.

If, after reading the Users Guide, respondents have questions about how to install or use the Electric Quarterly Report System software, they should call toll free at (866) 208-3676 or locally at (202) 502-6652 (or (202) 502-8659 for TTY) , or e-mail ferconlinesupport@ferc.gov to obtain help.

Magalie R. Salas,
Secretary.

Appendix A

Allowable Values for Restricted Fields

Increment Name

H = Hourly

D = Daily

M = Monthly

Y = Yearly 5x8

5x16

7x8

7x16

N/A = Not Applicable, Undefined, or Other

Increment Peaking Name

P = On Peak

OP = Off Peak

FP = Full Period

SH = Shoulder

UL = Ultra Peak

N/A = Not Applicable, Undefined, or Other

Product Name

For Cost-Based Power Sales:

Cost-Based Power

Economy Power

Emergency Energy

Unit Capacity

Unit Power Sale

Exchange

Peaking

Sale with exchange

Supplemental Power

Capacity

Energy

Back-up Power

Energy furnished without charge

Fuel Replacement Energy

Interchange Power

System Black Start Capability

SC—Schedule System Control & Dispatch

RV—Reactive Supply & Voltage Control

RF—Regulation & Frequency Response

EI—Energy Imbalance

SP—Spinning Reserve

SU—Supplemental Reserve

DT—Dynamic Transfer

Demand Charge

Customer Charge

Fuel Charge

Billing Service

Other

For Market-Based Power Sales:

Load Following

Marginal Peaking

Indexed Peaking

Capacity

Energy

System Black Start Capability

SC—Schedule System Control & Dispatch

RV—Reactive Supply & Voltage Control

RF—Regulation & Frequency Response

EI—Energy Imbalance

SP—Spinning Reserve

SU—Supplemental Reserve

DT—Dynamic Transfer

Demand Charge

Customer Charge

Fuel Charge

Billing Service

Other

For Transmission:

Point-to-Point

Network

SC—Schedule System Control & Dispatch

RV—Reactive Supply & Voltage Control

RF—Regulation & Frequency Response

EI—Energy Imbalance

SP—Spinning Reserve

SU—Supplemental Reserve

DT—Dynamic Transfer

Real Power Transmission Loss

System Black Start Capability

Must Run

Specialized affiliate transactions

System Impact and/or Facilities Study Charge(s)

Direct Assignment Facilities Charge

Demand Charge

Customer Charge

Billing Service

Other

For Services

Return in Kind Transactions Between Control Areas

System Operating Agreements

Interconnection Agreement

Standards of Conduct

Network Operating Agreement

Membership Agreement

Reliability Agreement

Transmission Owners Agreement

Other

Time Zone

AD = Atlantic Daylight Savings Time

AS = Atlantic Standard Time

AP = Atlantic Prevailing Time

ED = Eastern Daylight Savings Time

ES = Eastern Standard Time

EP = Eastern Prevailing Time

CD = Central Daylight Savings Time

CS = Central Standard Time

CP = Central Prevailing Time

MD = Mountain Daylight Savings Time

MS = Mountain Standard Time

MP = Mountain Prevailing Time

PD = Pacific Daylight Savings Time

PS = Pacific Standard Time

PP = Pacific Prevailing Time

UT = Universal Time

[FR Doc. 02-32680 Filed 12-26-02; 8:45 am]

BILLING CODE 6717-01-P